DEPARTMENT OF HOMELAND SECURITY

U.S. Citizenship and Immigration Services

Agency Information Collection Activities: Extension of a Currently Approved Information Collection; Comment Request

ACTION: 30-day notice of information collection under review: Request for fee waiver denial letter, Form G-1054.

The Department of Homeland Security, U.S. Citizenship and Immigration Services (USCIS) has submitted the following information collection to the Office of Management and Budget (OMB) for review and clearance in accordance with the Paperwork Reduction Act of 1995. The information collection was previously published in the Federal Register on August 30, 2004 at 69 FR 52909, allowed a 60-day public comment period. The USCIS did not receive any comments on this information collection during that period.

The purpose of this notice is to allow an additional 30 days for public comments. Comments are encouraged and will be accepted until February 7, 2005. This process is conducted in accordance with 5 CFR 1320.10.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Request for Fee Waiver Denial Letter.

(3) Agency form number, if any, and the applicable component sponsoring the collection: Form G-1054. U.S. Citizenship and Immigration Services.

(4) Affected public who will be asked or required to respond, as well as a brief abstract: Primary: Individuals or Households. Title 8 CFR 103.7(c), which authorizes the agency to waive fees, reads (in pertinent part) as follows: “The officer of the Service having jurisdiction to render a decision on the application, petition, appeal, motion or request may, in his discretion, grant the waiver of fee.” In order to maintain consistency in the adjudication of fee waiver requests, to collect accurate data on amounts of fee waivers, and to facilitate the public-use process, it is necessary to implement this Fee Waiver Denial Letter, Form G-1054.

(5) An estimate of the total number of respondents and the amount of time estimated for an average respondent to respond: 16,000 responses at 1.25 hours (75 minutes) per response.

(6) An estimate of the total public burden (in hours) associated with the collection: 20,000 annual burden hours.

If you have comments, suggestions, or need a copy of the information collection, please contact Richard A. Sloan, Director, Regulatory Management Division, U.S. Citizenship and Immigration Services, 111 Massachusetts Avenue, NW., Washington, DC 20529; (202) 272-8377.

Dated: December 30, 2004.
Richard A. Sloan,
Director, Regulatory Management Division, U.S. Citizenship and Immigration Services.

[FR Doc. 05-223 Filed 1-5-05; 8:45 am]

BILLING CODE 4410-10-M